NUCLEAR REGULATORY COMMISSION

Notice of Decommissioning Workshop

AGENCY: Nuclear Regulatory Commission.

ACTION: Notice of public workshop.

SUMMARY: The Decommissioning Directorate of the U.S. Nuclear Regulatory Commission's (NRC's) Office of Nuclear Material Safety and Safeguards is holding a Decommissioning Workshop on April 20 and 21, 2005, at The Shady Grove Center in Rockville, Maryland. The purposes of the Workshop are to: (1) Inform stakeholders of NRC's Integrated Decommissioning Improvement Plan (IDIP), including planned regulatory and program management improvements; (2) discuss the development of guidance resulting from the NRC staff's 2003 analysis of issues impacting the implementation of the License Termination Rule, and; (3) solicit feedback and suggestions from stakeholders on guidance, decommissioning lessons learned, and the decommissioning process in general. Public participation is encouraged at the Workshop to provide feedback and perspectives on issues of importance to the work of the NRC's Decommissioning Directorate.

DATES: The workshop will be held from 8 a.m. to 5:15 p.m. on April 20, 2005, and from 8 a.m. to 5 p.m. on April 21, 2005.

ADDRESSES: The workshop will be held at The Shady Grove Center, The Universities at Shady Grove, 9630 Gudelsky Drive, Rockville, MD, 20874.

FOR FURTHER INFORMATION CONTACT: Derek Widmayer, Office of Nuclear Material Safety and Safeguards, U.S. Nuclear Regulatory Commission, Washington, DC 20555. Telephone (301) 415-6677; Fax (301) 415-5398; electronic mail at daw@nrc.gov.

SUPPLEMENTARY INFORMATION: Information on registering for the Workshop, finding overnight accommodations, an up-to-date agenda, and background information on some of the topics to be discussed at the Workshop, is at the following link on the NRC's Web site: http://www.nrc.gov/public-involve/conference-symposia/decommissioning.html.

Dated at Rockville, Maryland, this 6th day of April 2005.
For the Nuclear Regulatory Commission.
Daniel M. Gillen,
Deputy Director, Decommissioning Directorate, Division of Waste Management and Environmental Protection, Office of Nuclear Material Safety and Safeguards.

[FR Doc. E5-1678 Filed 4-11-05; 8:45 am]

BILLING CODE 7590-01-P